FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 001727F.

Name: Lysan Forwarding Company, Inc.

Address: 5210 Yanceyville Road, Browns Summit, NC 27214.

Date Revoked: August 18, 2010.

Reason: Surrendered license voluntarily.

License Number: 019428N.

Name: Delta Trans Logistics, Inc.

Address: 15522 Broadway Center, Gardena, CA 90248.

Date Revoked: August 20, 2010.

Reason: Failed to maintain a valid bond.

License Number: 012142NF.

Name: Seaborne International, Inc. dba Seaborne Express Line.

Address: 8901 S. La Cienega Blvd., Suite 101, Inglewood, CA 90301.

Date Revoked: August 18, 2010.

Reason: Failed to maintain valid bonds.

License Number: 020581NF.

Name: Alpha Sun International, Inc.

Address: 5300 Kennedy Road, Suite C, Forest Park, GA 30297.

Date Revoked: August 20, 2010.

Reason: Surrendered license voluntarily.

License Number: 020736N.

Name: Oceanwind International, Inc. dba OWI dba The Broadwell Group.

Address: 415 S. Prospect Avenue, Suite 211, Redondo Beach, CA 90277.

Date Revoked: August 19, 2010.

Reason: Surrendered license voluntarily.

Sandra L. Kusumoto,
Director, Bureau of Certification and Licensing.

[FR Doc. 2010-22550 Filed 9-8-10; 8:45 am]

BILLING CODE P